DEPARTMENT OF TRANSPORTATION

Federal Aviation Administration

14 CFR Part 95

[Docket No. 31444; Amdt. No. 567]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, September 8, 2022.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

CONCLUSION

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on April 15, 2022.
Thomas J. Nichols,
Aviation Safety, Flight Standards Service, Manager, Standards Section, Flight Procedures & Airspace Group, Flight Technologies and Procedures Division.

Note: This document was received by the Office of the Federal Register on August 18, 2022.

Adoption of the Amendment

Accordingly, pursuant to the authority delegated to me by the Administrator, part 95 of the Federal Aviation Regulations (14 CFR part 95) is amended as follows effective at 0901 UTC, June 03, 2010.

PART 95—IFR Altitudes

1. The authority citation for part 95 continues to read as follows:

Authority: 49 U.S.C. 106(g), 40103, 40113 and 14 CFR 11.49(b)(2).

2. Part 95 is amended to read as follows:

Revisions to IFR Altitudes and Changeover Point
[Amendment 567 Effective Date September 08, 2022]
From | To | MEA
§ Color Routes
§ 95.60 Blue Federal Airway B5 Is Amended to Delete
CAPE LISBURNE, AK NDB/DME | POINT HOPE, AK NDB | 4000
§ 95.6 Blue Federal Airway B25 Is Amended to Delete
Orca Bay, AK NDB | * SHOPE, AK FIX | * 4900
* 6600—MCA SHOPE, AK FIX, N BND
SHOPE, AK FIX | GLENNALLEN, AK NDB | 10000
GLENNALLEN, AK NDB | * DELTA JUNCTION, AK NDB | ** 12000
* 8000—MCA DELTA JUNCTION, AK NDB, SE BND
** 11500—MOCA

From | To | MEA | MAA
§ 95.3000 Low Altitude RNAV Routes
§ 95.3207 RNAV Route T207 Is Amended by Adding
FOXAM, FL WP | MMKAY, FL WP | 1800 | 17500
MMKAY, FL WP | WALEE, FL WP | 2000 | 17500
Is Amended to Delete
ORMOND BEACH, FL VORTAC | CARRA, FL WP | 2300 | 15000
CARRA, FL WP | MONIA, GA FIX | 1900 | 15000
MONIA, GA FIX | WAYCROSS, GA VORTAC | 2300 | 15000
§ 95.3210 RNAV Route T210 Is Amended by Adding
HADDE, FL FIX | MISSM, FL WP | 1900 | 17500
MISSM, FL WP | OHLEE, FL WP | 2500 | 17500
OHLEE, FL WP | MMKAY, FL WP | 2500 | 17500
Is Amended to Delete
MARQO, FL WP | OHLEE, FL WP | 1900 | 9000
OHLEE, FL WP | BRADO, FL FIX | 1900 | 9000
BRADO, FL FIX | MMKAY, FL WP | 1800 | 17500
Is Amended to Read in Part
MMKAY, FL WP | MRUTT, FL WP | 2500 | 17500
MRUTT, FL WP | * GUANO, FL FIX | * 2500 | 17500
* 1900—MCA GUANO, FL FIX, S BND
GUANO, FL FIX | KIZER, FL FIX | 2800 | 17500
KIZER, FL FIX | EMSEE, FL WP | 2800 | 17500
§ 95.3222 RNAV Route T222 Is Amended by Adding
CABOT, AK FIX | WOGAX, AK WP | * 5000 | 17500
* 1400—MOCA
WOGAX, AK WP | IKUFU, AK FIX | * 5000 | 17500
* 2600—MOCA
IKUFU, AK FIX | JILSI, AK WP | * 5000 | 17500
* 3200—MOCA
JILSI, AK WP | CYCAS, AK WP | * 5000 | 17500
* 3500—MOCA
CYCAS, AK WP | UTICE, AK WP | * 5000 | 17500
* 3700—MOCA
UTICE, AK WP | MC GRATH, AK VORTAC | 5000 | 17500
Is Amended to Delete
BAERE, AK WP | ST PAUL ISLAND, AK NDB/DME | 3600 | 17500
Is Amended to Read in Part
ST PAUL ISLAND, AK NDB/DME | BETHEL, AK VORTAC | *3000 | 17500
* 2400—MOCA
BETHEL, AK VORTAC | CABOT, AK FIX | * 5000 | 17500
* 1500—MOCA
§ 95.3275 RNAV Route T275 Is Amended by Adding
ZIKNI, AK WP | BETHEL, AK VORTAC | * 5900 | 17500
* 3600—MOCA
BETHEL, AK VORTAC | DAVBE, AK WP | * 5900 | 17500
* 3200—MOCA
DAVBE, AK WP | YELLW, AK WP | * 5900 | 17500
* 4700—MOCA
YELLW, AK WP | VUSUY, AK FIX | * 5900 | 17500
* 5100—MOCA
VUSUY, AK FIX | JERDN, AK WP | * 5900 | 17500
* 4400—MOCA
JERDN, AK WP | UNALAKLEET, AK VOR/DME | * 5900 | 17500
* 4000—MOCA
§ 95.3308 RNAV Route T308 Is Added to Read
EMMONAK, AK VOR/DME | WEREL, AK WP | 5000 | 17500
§ 95.3336 RNAV Route T336 Is Amended by Adding
TROYR, FL WP | FUTSY, FL WP | 2500 | 17500
FUTSY, FL WP | OMMNI, FL WP | 1900 | 17500
OMMNI, FL WP | VIZTA, FL WP | 1800 | 17500
VIZTA, FL WP | PUNQU, FL WP | 2000 | 17500
DEARY, FL FIX | VALKA, FL FIX | 1800 | 17500
Is Amended to Delete
TROYR, FL WP | OMMNI, FL WP | 2500 | 17500
OMMNI, FL WP | PUNQU, FL WP | 2000 | 17500
DEARY, FL FIX | WIXED, FL WP | 1800 | 17500
§ 95.3337 RNAV Route T337 Is Amended to Delete
SWENY, FL WP | RISKS, FL WP | 2000 | 17500
RISKS, FL WP | WEZER, FL WP | 2000 | 17500
§ 95.3339 RNAV Route T339 Is Amended by Adding
CARNU, FL FIX | DEEDS, FL FIX | 1800 | 17500
Is Amended to Delete
KARTR, FL FIX | DEEDS, FL FIX | 1700 | 17500
§ 95.3341 RNAV Route T341 Is Amended to Read in Part
CUSEK, FL WP | YELLZ, FL WP | 1900 | 17500
YELLZ, FL WP | WEZER, FL WP | 2000 | 17500
VARZE, FL WP | DULFN, FL WP | 1800 | 17500
DULFN, FL WP | OMMNI, FL WP | 1800 | 17500
OMMNI, FL WP | WHOOU, FL WP | 2100 | 12000
WHOOU, FL WP | MARQO, FL WP | 1900 | 12000
§ 95.3343 RNAV Route T343 Is Amended by Adding
COOFS, FL FIX | CUSEK, FL WP | 1800 | 17500
Is Amended to Delete
WORPP, FL FIX | CUSEK, FL WP | 1800 | 17500
§ 95.3345 RNAV Route T345 Is Amended by Adding
LLNCH, FL FIX | VALKA, FL FIX | 1800 | 17500
Is Amended to Delete
LLNCH, FL FIX | DEARY, FL FIX | 1800 | 17500
§ 95.3347 RNAV Route T347 Is Amended by Adding
SHANC, FL FIX | BOBOE, FL WP | 1700 | 17500
DURRY, FL WP | CLEFF, FL WP | 1700 | 17500
BAIRN, FL FIX | ODDEL, FL FIX | 2700 | 17500
ODDEL, FL FIX | SABOT, FL FIX | 2700 | 17500
Is Amended to Read in Part
SABOT, FL FIX | * CROPY, FL FIX | * 1800 | 17500
* 2000—MCA CROPY, FL FIX, N BND
CROPY, FL FIX | KIZER, FL FIX | 2800 | 17500
KIZER, FL FIX | GUANO, FL FIX | 2800 | 17500
§ 95.3349 RNAV Route T349 Is Amended by Adding
VARZE, FL WP | MILOW, FL WP | 1900 | 17500
MILOW, FL WP | MURDE, FL WP | 1900 | 17500
MURDE, FL WP | TROYR, FL WP | 1900 | 17500
§ 95.3353 RNAV Route T353 Is Amended by Adding
FOXAM, FL WP | COBOK, FL FIX | 1700 | 17500
COBOK, FL FIX | SUBER, FL FIX | * 1700 | 17500
* 1200—MOCA
SUBER, FL FIX | STARY, GA FIX | * 1700 | 17500
* 1200—MOCA
Is Amended to Delete
FOXAM, FL WP | ASTOR, FL FIX | 1700 | 17500
Is Amended to Read in Part
EMSEE, FL WP | KIZER, FL FIX | 2800 | 17500
KIZER, FL FIX | GUANO, FL FIX | 2800 | 17500
§ 95.3366 RNAV Route T366 Is Added to Read
VANTY, AK WP | CABGI, AK WP | 4000 | 17500
CABGI, AK WP | SUPGY, AK WP | 4000 | 17500
SUPGY, AK WP | JODGU, AK WP | 2200 | 17500
JODGU, AK WP | FILEV, AK WP | 1900 | 17500
FILEV, AK WP | BARROW, AK VOR/DME | * 1900 | 17500
* 1400—MOCA
BARROW, AK VOR/DME | JATIL, AK WP | 1800 | 17500
§ 95.3372 RNAV Route T372 Is Added to Read
BIG LAKE, AK VORTAC | WUNTU, AK WP | * 6600 | 17500
* 7500—MCA WUNTU, AK WP, NE BND
WUNTU, AK WP | CAGOP, AK WP | * 10000 | 17500
* 8100—MOCA
CAGOP, AK WP | FITAT, AK WP | * 10000 | 17500
* 8200—MOCA
FITAT, AK WP | TOYOC, AK WP | * 10000 | 17500
* 8400—MOCA
TOYOC, AK WP | ZAMUP, AK WP | * 10000 | 17500
* 9100—MOCA
ZAMUP, AK WP | CANGI, AK WP | * 10000 | 17500
* 9100—MOCA
CANGI, AK WP | WAPRU, AK WP | * 10000 | 17500
* 8600—MOCA
WAPRU, AK WP | HOSON, AK WP | * 10000 | 17500
* 7700—MOCA
HOSON, AK WP | SMOKY, AK FIX | 7200 | 17500
SMOKY, AK FIX | GULKANA, AK VOR/DME | 5300 | 17500
GULKANA, AK VOR/DME | BEFTI, AK WP | 5200 | 17500
BEFTI, AK WP | * CEBUN, AK WP | * 5200 | 17500
* 5700—MCA CEBUN, AK WP, NE BND
CEBUN, AK WP | * HIGOL, AK WP | 6900 | 17500
* 7800—MCA HIGOL, AK WP, NE BND
HIGOL, AK WP | * JOLOB, AK WP | ** 11000 | 17500
* 8200—MCA JOLOB, AK WP, SW BND
* *8600—MOCA
JOLOB, AK WP | * WEBOL, AK WP | 7100 | 17500
* 6400—MCA WEBOL, AK WP, SW BND
WEBOL, AK WP | NORTHWAY, AK VORTAC | 5200 | 17500
NORTHWAY, AK VORTAC | U.S. CANADIAN BORDER | 5800 | 17500
§ 95.3373 RNAV Route T373 Is Added to Read
KOWOK, AK FIX | RAGES, AK FIX | 4400 | 17500
RAGES, AK FIX | * ZUDSO, AK WP | 5500 | 17500
* 6600—MCA ZUDSO, AK WP, W BND
ZUDSO, AK WP | MAYHW, AK WP | 7400 | 17500
MAYHW, AK WP | * FEXOP, AK WP | 7400 | 17500
* 5200—MCA FEXOP, AK WP, SE BND
FEXOP, AK WP | * ZETNU, AK WP | 4900 | 17500
* 4800—MCA ZETNU, AK WP, E BND
ZETNU, AK WP | BETHEL, AK VORTAC | 3700 | 17500
BETHEL, AK VORTAC | WEREL, AK WP | 3900 | 17500
§ 95.3375 RNAV Route T375 Is Added to Read
BETTLES, AK VOR/DME | * FEDEN, AK WP | 4500 | 17500
* 5300—MCA FEDEN, AK WP, N BND
FEDEN, AK WP | HEKDU, AK WP | 6600 | 17500
HEKDU, AK WP | TOUTS, AK WP | 6900 | 17500
* 7000—MCA TOUTS, AK WP, NW BND
TOUTS, AK WP | ZEBUR, AK WP | 7100 | 17500
ZEBUR, AK WP | RUTTY, AK WP | 7300 | 17500
RUTTY, AK WP | FERKA, AK WP | 7800 | 17500
FERKA, AK WP | ZENSA, AK WP | 8100 | 17500
ZENSA, AK WP | * HAKSA, AK W | 8100 | 17500
* 6900—MCA HAKSA, AK WP, S BND
HAKSA, AK WP | DERIK, AK FIX | 5800 | 17500
§ 95.3381 RNAV Route T381 Is Added to Read
BIG LAKE, AK VORTAC | TALKEETNA, AK VOR/DME | 3000 | 17500
TALKEETNA, AK VOR/DME | * HUMUB, AK WP | 3000 | 17500
* 4000—MCA HUMUB, AK WP, NW BND
HUMUB, AK WP | * WEGNO, AK WP | 4600 | 17500
* 5400—MCA WEGNO, AK WP, N BND
WEGNO, AK WP | ZALVI, AK WP | 6200 | 17500
ZALVI, AK WP | ZEKLI, AK WP | 6400 | 17500
ZEKLI, AK WP | * CEKED, AK WP | 6400 | 17500
* 6600—MCA CEKED, AK WP, N BND
CEKED, AK WP | EBIME, AK WP | * 9000 | 17500
* 7100—MOCA
EBIME, AK WP | JOTSO, AK WP | * 9000 | 17500
* 7900—MOCA
JOTSO, AK WP | PAWKY, AK WP | * 9000 | 17500
* 8200—MOCA
PAWKY, AK WP | WIVEN, AK WP | * 9000 | 17500
* 7800—MOCA
WIVEN, AK WP | * WUKIR, AK WP | ** 9000 | 17500
* 7100—MCA WUKIR, AK WP, S BND
* *7700—MOCA
WUKIR, AK WP | * SOYAS, AK WP | 6700 | 17500
* 5300—MCA SOYAS, AK WP, S BND
SOYAS, AK WP | GLOWS, AK FIX | 4000 | 17500
GLOWS, AK FIX | PERZO, AK WP | 3600 | 17500
PERZO, AK WP | * FAIRBANKS, AK VORTAC | 3600 | 17500
* 3700—MCA FAIRBANKS, AK VORTAC, N BND
FAIRBANKS, AK VORTAC | * CHATA, AK FIX | 5000 | 17500
* 5000—MCA CHATA, AK FIX, N BND
CHATA, AK FIX | *BURMA, AK FIX | 7400 | 17500
* 4100—MCA BURMA, AK FIX, S BND
BURMA, AK FIX | BIJOU, AK FIX | 3000 | 17500
BIJOU, AK FIX | FORT YUKON, AK VORTAC | 2800 | 17500
§ 95.3390 RNAV Route T390 Is Added to Read
WANKI, AK WP | RANND, AK FIX | * 4800 | 17500
* 2800—MOCA
RANND, AK FIX | DIBWO, AK FIX | * 4800 | 17500
* 1200—MOCA
DIBWO, AK FIX | ALEUT, AK WP | * 6600 | 17500
* 1500—MOCA
ALEUT, AK WP | ZEBUV, AK FIX | * 6600 | 17500
* 3000—MOCA
ZEBUV, AK FIX | TESPE, AK FIX | * 6000 | 17500
* 2600—MOCA
TESPE, AK FIX | KING SALMON, AK VORTAC | * 9000 | 17500
* 2200—MOCA
KING SALMON, AK VORTAC | * OLAYA, AK FIX | ** 4100 | 17500
* 4100—MCA OLAYA, AK FIX, SW BND
* *2100—MOCA
OLAYA, AK FIX | * TOMMY, AK FIX | ** 3100 | 17500
* 6000—MCA TOMMY, AK FIX, NE BND
* *2600—MOCA
TOMMY, AK FIX | BISAY, AK WP | * 6000 | 17500
* 2100—MOCA
BISAY, AK WP | NUTUW, AK FIX | * 6000 | 17500
* 1300—MOCA
NUTUW, AK FIX | DUMZU, AK WP | * 6000 | 17500
* 3800—MOCA
§ 95.3396 RNAV Route T396 Is Added to Read
NOME, AK VOR/DME | EZATY, AK FIX | 3000 | 17500
EZATY, AK FIX | * HALUS, AK WP | 4500 | 17500
* 3600—MCA HALUS, AK WP, W BND
HALUS, AK WP | * JAYQE, AK FIX | 3000 | 17500
* 4000—MCA JAYQE, AK FIX, E BND
JAYQE, AK FIX | JAGGU, AK FIX | 5900 | 17500
JAGGU, AK FIX | DIBVY, AK FIX | 2600 | 17500
DIBVY, AK FIX | GALENA, AK VOR/DME | 3100 | 17500
§ 95.3400 RNAV Route T400 Is Added to Read
LLUKY, NE WP | IMUPP, SD WP | 3700 | 17500
IMUPP, SD WP | DURWN, MN WP | 3400 | 17500
DURWN, MN WP | MEMCO, MN WP | 3300 | 17500
MEMCO, MN WP | ZOSAG, MN WP | 2900 | 17500
* 2400—MOCA
§ 95.3415 RNAV Route T415 Is Added to Read
WRNGL, AK WP | GRYNE, AK WP | 7400 | 17500
GRYNE, AK WP | * DUYZI, AK WP | 730 | 17500
* 6600—MCA DUYZI, AK WP, E BND
DUYZI, AK WP | GULKANA, AK VOR/DME | 4700 | 17500
§ 95.3417 RNAV Route T417 Is Added to Read
CEBUN, AK WP | HATIX, AK WP | 9100 | 17500
HATIX, AK WP | EGAXE, AK FIX | 9100 | 17500
§ 95.3418 RNAV Route T418 Is Added to Read
LAMAR, CO VOR/DME | DRAWL, KS FIX | 5600 | 17500
DRAWL, KS FIX | TOTOE, KS WP | 5000 | 17500
TOTOE, KS WP | MITBEE, OK VORTAC | *5000 | 17500
* 4400—MOCA
§ 95.3431 RNAV Route T431 Is Added to Read
KENTO, NM FIX | ADEOS, OK WP | 6700 | 17500
ADEOS, OK WP | TOTOE, KS WP | 5600 | 17500
TOTOE, KS WP | MOZEE, KS WP | 4800 | 17500
MOZEE, KS WP | KNSAS, KS WP | 3900 | 17500
§ 95.3435 RNAV Route T435 Is Added to Read
HOLIM, AK WP | * RAYMD, AK FIX | 4200 | 17500
* 5300—MCA RAYMD, AK FIX, N BND
RAYMD, AK FIX | * FEPAB, AK WP | 8400 | 17500
* 7500—MCA FEPAB, AK WP, S BND
FEPAB, AK WP | WIXER, AK WP | 6000 | 17500
WIXER, AK WP | OBUKE, AK FIX | 2600 | 17500
OBUKE, AK FIX | ZILKO, AK FIX | * 3700 | 17500
* 1200—MOCA
ZILKO, AK FIX | KING SALMON, AK VORTAC | * 3300 | 17500
* 1600—MOCA
§ 95.3768 RNAV Route T768 Is Added to Read
INTERNATIONAL FALLS, MN VOR/DME | YUPNU, MN WP | 2900 | 17500
YUPNU, MN WP | CIVLU, MN FIX | 3000 | 17500
CIVLU, MN FIX | U.S. CANADIAN BORDER | 3000 | 1750
§ 95.4000 High Altitude RNAV Routes Is Amended by Adding
§ 95.4022 RNAV Route Q22
TWOUP, GA WP | BURGG, SC WP | 18000 | 45000
* 18000—GNSS MEA
* DME/DME/IRU MEA
BURGG, SC WP | NYBLK, NC WP | * 18000 | 45000
* 18000—GNSS MEA
* DME/DME/IRU MEA
Is Amended to Delete
TWOUP, GA WP | SPARTANBURG, SC VORTAC | *18000 | 45000
* 18000—GNSS MEA
* DME/DME/IRU MEA
SPARTANBURG, SC VORTAC | NYBLK, NC WP | * 18000 | 45000
* 18000—GNSS MEA
* DME/DME/IRU MEA
§ 95.4034 RNAV Route Q34 Is Amended by Adding
WAKOL, TN WP | HITMN, TN WP | *18000 | 45000
* 18000—GNSS MEA
* DME/DME/IRU MEA
#BNA, PXV
HITMN, TN WP | SWAPP, TN FIX | *18000 | 45000
* 18000—GNSS MEA
* DME/DME/IRU MEA
§ 95.4060 RNAV Route Q60 Is Amended to Delete
SPARTANBURG, SC VORTAC | BYJAC, NC FIX | * 18000 | 45000
* 18000—GNSS MEA
* DME/DME/IRU MEA
BYJAC, NC FIX | EVING, NC WP | * 18000 | 45000
* 18000—GNSS MEA
* DME/DME/IRU MEA
Is Amended by Adding
BURGG, SC WP | EVING, NC WP | *18000 | 45000
* 18000—GNSS MEA
* DME/DME/IRU MEA
JAXSN, VA FIX | SHIRY, VA WP | * 18000 | 45000
* 18000—GNSS MEA
* DME/DME/IRU MEA
SHIRY, VA WP | HURTS, VA WP | * 18000 | 45000
* 18000—GNSS MEA
* DME/DME/IRU MEA
Is Amended to Read in Part
EVING, NC WP | JAXSN, VA FIX | * 18000 | 45000
* 18000—GNSS MEA
* DME/DME/IRU MEA
§ 95.4063 RNAV Route Q63 Is Amended to Delete
DOOGE, VA WP | HAPKI, KY WP | * 18000 | 45000
* 18000—GNSS MEA
* DME/DME/IRU MEA
HAPKI, KY WP | TONIO, KY WP | *18000 | 45000
* 18000—GNSS MEA
* DME/DME/IRU MEA
TONIO, KY WP | OCASE, KY WP | * 18000 | 45000
* 18000—GNSS MEA
* DME/DME/IRU MEA
OCASE, KY WP | HEVAN, IN WP | * 18000 | 45000
* 18000—GNSS MEA
* DME/DME/IRU MEA
§ 95.4075 RNAV Route Q75 Is Amended to Read in Part
JERSY, NJ WP | FARLE, NY FIX | * 18000 | 45000
* 18000—GNSS MEA
* DME/DME/IRU MEA
FARLE, NY FIX | BIZEX, NY WP | * 18000 | 45000
* 18000—GNSS MEA
* DME/DME/IRU MEA
§ 95.4085 RNAV Route Q85 Is Amended by Adding
SMPRR, NC WP | PBCUP, NC WP | * 18000 | 45000
* 18000—GNSS MEA
* DME/DME/IRU MEA
PBCUP, NC WP | MOXXY, NC WP | * 18000 | 45000
* 18000—GNSS MEA
* DME/DME/IRU MEA
MOXXY, NC WP | CRPLR, VA WP | * 18000 | 45000
* 18000—GNSS MEA
* DME/DME/IRU MEA
§ 95.4087 RNAV Route Q87 Is Amended by Adding
LCAPE, SC WP | ALWZZ, NC WP | * 18000 | 45000
* 18000—GNSS MEA
* DME/DME/IRU MEA
ALWZZ, NC WP | ASHEL, NC WP | * 18000 | 45000
* 18000—GNSS MEA
* DME/DME/IRU MEA
ASHEL, NC WP | DADDS, NC WP | * 18000 | 45000
* 18000—GNSS MEA
* DME/DME/IRU MEA
DADDS, NC WP | NOWAE, NC WP | * 18000 | 45000
* 18000—GNSS MEA
* DME/DME/IRU MEA
NOWAE, NC WP | RIDDN, VA WP | * 18000 | 45000
* 18000—GNSS MEA
* DME/DME/IRU MEA
RIDDN, VA WP | GEARS, VA WP | * 18000 | 45000
* 18000—GNSS MEA
* DME/DME/IRU MEA
GEARS, VA WP | HURTS, VA WP | * 18000 | 45000
* 18000—GNSS MEA
* DME/DME/IRU MEA
§ 95.4097 RNAV Route Q97 Is Amended by Adding
ELLDE, NC WP | YEASO, NC WP | *18000 | 45000
* 18000—GNSS MEA
* DME/DME/IRU MEA
YEASO, NC WP | PAACK, NC WP | * 18000 | 45000
* 18000—GNSS MEA
* DME/DME/IRU MEA
PAACK, NC WP | KOHLS, NC WP | * 18000 | 45000
* 18000—GNSS MEA
* DME/DME/IRU MEA
KOHLS, NC WP | SAWED, VA FIX | * 18000 | 45000
* 18000—GNSS MEA
* DME/DME/IRU MEA
SAWED, VA FIX | KALDA, VA FIX | * 18000 | 45000
* 18000—GNSS MEA
* DME/DME/IRU MEA
KALDA, VA FIX | ZJAAY, MD WP | * 18000 | 45000
* 18000—GNSS MEA
* DME/DME/IRU MEA
ZJAAY, MD WP | DLAAY, MD WP | * 18000 | 45000
* 18000—GNSS MEA
* DME/DME/IRU MEA
DLAAY, MD WP | BRIGS, NJ FIX | * 18000 | 45000
* 18000—GNSS MEA
* DME/DME/IRU MEA
BRIGS, NJ FIX | HEADI, NJ WP | * 18000 | 45000
* 18000—GNSS MEA
* DME/DME/IRU MEA
HEADI, NJ WP | SAILN, OA WP | * 18000 | 45000
* 18000—GNSS MEA
* DME/DME/IRU MEA
SAILN, OA WP | CALVERTON, NY VOR/DME | *18000 | 45000
* 18000—GNSS MEA
* DME/DME/IRU MEA
CALVERTON, NY VOR/DME | NTMEG, CT WP | *18000 | 45000
* 18000—GNSS MEA
* DME/DME/IRU MEA
NTMEG, CT WP | VENTE, MA WP | * 18000 | 45000
* 18000—GNSS MEA
* DME/DME/IRU MEA
VENTE, MA WP | BLENO, NH WP | *18000 | 45000
* 18000—GNSS MEA
* DME/DME/IRU MEA
BLENO, NH WP | BEEKN, ME WP | *18000 | 45000
* 18000—GNSS MEA
* DME/DME/IRU MEA
BEEKN, ME WP | FRIAR, ME FIX | *18000 | 45000
* GNSS REQUIRED
FRIAR, ME FIX | PRESQUE ISLE, ME VOR/DME | * 18000 | 45000
* GNSS REQUIRED
§ 95.4099 RNAV Route Q99 Is Amended by Adding
POLYY, NC WP | RAANE, NC WP | *18000 | 45000
* 18000—GNSS MEA
* DME/DME/IRU MEA
RAANE, NC WP | OGRAE, NC WP | * 18000 | 45000
* 18000—GNSS MEA
* DME/DME/IRU MEA
OGRAE, NC WP | PEETT, NC WP | * 18000 | 45000
* 18000—GNSS MEA
* DME/DME/IRU MEA
PEETT, NC WP | SHIRY, VA WP | * 18000 | 45000
* 18000—GNSS MEA
* DME/DME/IRU MEA
SHIRY, VA WP | UMBRE, VA WP | * 18000 | 45000
* 18000—GNSS MEA
* DME/DME/IRU MEA
UMBRE, VA WP | QUART, VA WP | * 18000 | 45000
* 18000—GNSS MEA
* DME/DME/IRU MEA
QUART, VA WP | HURLE, VA WP | * 18000 | 45000
* 18000—GNSS MEA
* DME/DME/IRU MEA
§ 95.4101 RNAV Route Q101 Is Added to Read
SKARP, NC WP | PRANK, NC WP | * 18000 | 45000
* 18000—GNSS MEA
* DME/DME/IRU MEA
PRANK, NC WP | BGBRD, NC WP | * 18000 | 45000
* 18000—GNSS MEA
* DME/DME/IRU MEA
BGBRD, NC WP | HYPAL, VA WP | * 18000 | 45000
* 18000—GNSS MEA
* DME/DME/IRU MEA
HYPAL, VA WP | TUGGR, VA WP | * 18000 | 45000
* 18000—GNSS MEA
* DME/DME/IRU MEA
§ 95.4107 RNAV Route Q107 Is Added to Read
GARIC, NC WP | ZORDO, NC WP | *18000 | 45000
* 18000—GNSS MEA
* DME/DME/IRU MEA
ZORDO, NC WP | JAAMS, NC WP | * 18000 | 45000
* 18000—GNSS MEA
* DME/DME/IRU MEA
JAAMS, NC WP | ALINN, NC WP | * 18000 | 45000
* 18000—GNSS MEA
* DME/DME/IRU MEA
ALINN, NC WP | HURTS, VA WP | * 18000 | 45000
* 18000—GNSS MEA
* DME/DME/IRU MEA
§ 95.4109 RNAV Route Q109 Is Amended by Adding
LAANA, NC WP | TINKK, NC WP | * 18000 | 45000
* 18000—GNSS MEA
* DME/DME/IRU MEA
TINKK, NC WP | DFENC, NC WP | * 18000 | 45000
* 18000—GNSS MEA
* DME/DME/IRU MEA
§ 95.4111 RNAV Route Q111 Is Added to Read
ZORDO, NC WP | LARKE, NC WP | * 18000 | 45000
* 18000—GNSS MEA
* DME/DME/IRU MEA
LARKE, NC WP | RUKRR, VA WP | * 18000 | 45000
* 18000—GNSS MEA
* DME/DME/IRU MEA
RUKRR, VA WP | GEARS, VA WP | * 18000 | 45000
* 18000—GNSS MEA
* DME/DME/IRU MEA
GEARS, VA WP | SWNGR, VA WP | * 18000 | 45000
* 18000—GNSS MEA
* DME/DME/IRU MEA
SWNGR, VA WP | ALXEA, VA WP | * 18000 | 45000
* 18000—GNSS MEA
* DME/DME/IRU MEA
§ 95.4113 RNAV Route Q113 Is Amended by Adding
SARKY, SC WP | MARCL, NC WP | * 18000 | 45000
* 18000—GNSS MEA
* DME/DME/IRU MEA
MARCL, NC WP | AARNN, NC WP | * 18000 | 45000
* 18000—GNSS MEA
* DME/DME/IRU MEA
AARNN, NC WP | RIDDN, VA WP | * 18000 | 45000
* 18000—GNSS MEA
* DME/DME/IRU MEA
§ 95.4117 RNAV Route Q117 Is Added to Read
YLEEE, NC WP | CUDLE, NC WP | * 18000 | 45000
* 18000—GNSS MEA
* DME/DME/IRU MEA
CUDLE, NC WP | SUSSA, NC WP | * 18000 | 45000
* 18000—GNSS MEA
* DME/DME/IRU MEA
SUSSA, NC WP | KTEEE, NC WP | * 18000 | 45000
* 18000—GNSS MEA
* DME/DME/IRU MEA
KTEEE, NC WP | SAWED, VA FIX | * 18000 | 45000
* 18000—GNSS MEA
* DME/DME/IRU MEA
§ 95.4131 RNAV Route Q131 Is Added to Read
ZILLS, NC WP | YLEEE, NC WP | *18000 | 45000
* 18000—GNSS MEA
* DME/DME/IRU MEA
YLEEE, NC WP | EARZZ, NC WP | *18000 | 45000
* 18000—GNSS MEA
* DME/DME/IRU MEA
EARZZ, NC WP | ODAWG, VA WP | * 18000 | 45000
* 18000—GNSS MEA
* DME/DME/IRU MEA
ODAWG, VA WP | KALDA, VA FIX | *18000 | 45000
* 18000—GNSS MEA
* DME/DME/IRU MEA
KALDA, VA FIX | ZJAAY, MD WP | * 18000 | 45000
* 18000—GNSS MEA
* DME/DME/IRU MEA
§ 95.4133 RNAV Route Q133 Is Added to Read
CHIEZ, NC WP | BENCH, NC WP | * 18000 | 45000
* 18000—GNSS MEA
* DME/DME/IRU MEA
BENCH, NC WP | KOOKI, NC WP | * 18000 | 45000
* 18000—GNSS MEA
* DME/DME/IRU MEA
KOOKI, NC WP | PYSTN, VA WP | * 18000 | 45000
* 18000—GNSS MEA
* DME/DME/IRU MEA
PYSTN, VA WP | KALDA, VA FIX | * 18000 | 45000
* 18000—GNSS MEA
* DME/DME/IRU MEA
KALDA, VA FIX | CONFR, MD WP | * 18000 | 45000
* 18000—GNSS MEA
* DME/DME/IRU MEA
CONFR, MD WP | MGERK, DE WP | * 18000 | 45000
* 18000—GNSS MEA
* DME/DME/IRU MEA
MGERK, DE WP | LEEAH, NJ FIX | * 18000 | 45000
* 18000—GNSS MEA
* DME/DME/IRU MEA
LEEAH, NJ FIX | MYRCA, NJ WP | * 18000 | 45000
* 18000—GNSS MEA
* DME/DME/IRU MEA
MYRCA, NJ WP | KENNEDY, NY VOR/DME | * 18000 | 45000
* 18000—GNSS MEA
* DME/DME/IRU MEA
KENNEDY, NY VOR/DME | LLUND, NY FIX | * 18000 | 45000
* 18000—GNSS MEA
* DME/DME/IRU MEA
LLUND, NY FIX | FARLE, NY FIX | * 18000 | 45000
* 18000—GNSS MEA
* DME/DME/IRU MEA
FARLE, NY FIX | GANDE, NY FIX | * 18000 | 45000
* 18000—GNSS MEA
* DME/DME/IRU MEA
GANDE, NY FIX | PONCT, NY WP | * 18000 | 45000
* 18000—GNSS MEA
* DME/DME/IRU MEA
§ 95.4135 RNAV Route Q135 Is Amended by Adding
RAPZZ, NC WP | ZORDO, NC WP | * 18000 | 45000
* 18000—GNSS MEA
* DME/DME/IRU MEA
ZORDO, NC WP | CUDLE, NC WP | * 18000 | 45000
* 18000—GNSS MEA
* DME/DME/IRU MEA
§ 95.4162 RNAV Route Q162 Is Amended to Delete
NTELL, CA WP | CABAB, CA WP | * 24000 | 45000
* 18000—GNSS MEA
* DME/DME/IRU MEA
CABAB, CA WP | VIKSN, CA WP | * 28000 | 45000
* 18000—GNSS MEA
* DME/DME/IRU MEA
VIKSN, CA WP | KENNO, NV WP | * 28000 | 45000
* 18000—GNSS MEA
* DME/DME/IRU MEA
KENNO, NV WP | ESSAA, NV WP | * 28000 | 45000
* 18000—GNSS MEA
* DME/DME/IRU MEA
ESSAA, NV WP | TUMBE, NV WP | * 28000 | 45000
* 18000—GNSS MEA
* DME/DME/IRU MEA
TUMBE, NV WP | MYCAL, NV WP | * 28000 | 45000
* 18000—GNSS MEA
* DME/DME/IRU MEA
§ 95.4166 RNAV Route Q166 Is Amended to Delete
VIKSN, CA WP | UHILL, CA WP | * 23000 | 45000
* 18000—GNSS MEA
* DME/DME/IRU MEA
UHILL, CA WP | BIKKR, CA WP | * 23000 | 45000
* 18000—GNSS MEA
* DME/DME/IRU MEA
§ 95.4167 RNAV Route Q167 Is Added to Read
ZJAAY, MD WP | PAJET, DE WP | * 18000 | 45000
* 18000—GNSS MEA
* DME/DME/IRU MEA
PAJET, DE WP | CAANO, DE WP | * 18000 | 45000
* 18000—GNSS MEA
* DME/DME/IRU MEA
CAANO, DE WP | TBONN, OA WP | * 18000 | 45000
* 18000—GNSS MEA
* DME/DME/IRU MEA
TBONN, OA WP | ZIZZI, NJ FIX | *18000 | 45000
* 18000—GNSS MEA
* DME/DME/IRU MEA
ZIZZI, NJ FIX | YAZUU, NJ FIX | *18000 | 45000
* 18000—GNSS MEA
* DME/DME/IRU MEA
YAZUU, NJ FIX | TOPRR, OA WP | * 18000 | 45000
* 18000—GNSS MEA
* DME/DME/IRU MEA
TOPRR, OA WP | EMJAY, NJ FIX | * 18000 | 45000
* 18000—GNSS MEA
* DME/DME/IRU MEA
EMJAY, NJ FIX | SPDEY, OA WP | * 18000 | 45000
* 18000—GNSS MEA
* DME/DME/IRU MEA
SPDEY, OA WP | RIFLE, NY FIX | * 18000 | 45000
* 18000—GNSS MEA
* DME/DME/IRU MEA
RIFLE, NY FIX | HOFFI, NY FIX | * 18000 | 45000
* 18000—GNSS MEA
* DME/DME/IRU MEA
HOFFI, NY FIX | ORCHA, NY WP | * 18000 | 45000
* 18000—GNSS MEA
* DME/DME/IRU MEA
ORCHA, NY WP | ALBOW, NY WP | * 18000 | 45000
* 18000—GNSS MEA
* DME/DME/IRU MEA
ALBOW, NY WP | GRONC, NY WP | * 18000 | 45000
* 18000—GNSS MEA
* DME/DME/IRU MEA
GRONC, NY WP | NESTT, RI WP | * 18000 | 45000
* 18000—GNSS MEA
* DME/DME/IRU MEA
NESTT, RI WP | BUZRD, MA WP | * 18000 | 45000
* 18000—GNSS MEA
* DME/DME/IRU MEA
BUZRD, MA WP | SSOXS, MA FIX | * 18000 | 45000
* 18000—GNSS MEA
* DME/DME/IRU MEA
§ 95.4176 RNAV Route Q176 Is Amended to Delete
KENTO, NM FIX | LIBERAL, KS TACAN | * 18000 | 45000
* GNSS REQUIRED
LIBERAL, KS TACAN | WICHITA, KS VORTAC | * 18000 | 45000
* GNSS REQUIRED
WICHITA, KS VORTAC | BUTLER, MO VORTAC | * 18000 | 45000
* GNSS REQUIRED
Is Amended to Read in Part
KENTO, NM FIX | TOTOE, KS WP | * 22000 | 45000
* 18000—GNSS MEA
* DME/DME/IRU MEA
TOTOE, KS WP | WRIGL, KS WP | * 22000 | 45000
* 18000—GNSS MEA
* DME/DME/IRU MEA
WRIGL, KS WP | BUTLER, MO VORTAC | * 18000 | 45000
* 18000—GNSS MEA
* DME/DME/IRU MEA
§ 95.4409 RNAV Route Q409 Is Amended by Adding
MRPIT, NC WP | DEEEZ, NC WP | * 18000 | 45000
* 18000—GNSS MEA
* DME/DME/IRU MEA
DEEEZ, NC WP | GUILD, NC WP | * 18000 | 45000
* 18000—GNSS MEA
* DME/DME/IRU MEA
GUILD, NC WP | CRPLR, VA WP | * 18000 | 45000
* 18000—GNSS MEA
* DME/DME/IRU MEA
CRPLR, VA WP | TRPOD, MD WP | * 18000 | 45000
* 18000—GNSS MEA
* DME/DME/IRU MEA
TRPOD, MD WP | GNARO, DE WP | * 18000 | 45000
* 18000—GNSS MEA
* DME/DME/IRU MEA
GNARO, DE WP | VILLS, NJ FIX | * 18000 | 45000
* 18000—GNSS MEA
* DME/DME/IRU MEA
VILLS, NJ FIX | COYLE, NJ VORTAC | * 18000 | 45000
* 18000—GNSS MEA
* DME/DME/IRU MEA
COYLE, NJ VORTAC | WHITE, NJ FIX | * 18000 | 45000
* 18000—GNSS MEA
* DME/DME/IRU MEA
§ 95.4445 RNAV Route Q445 Is Added to Read
PAACK, NC WP | JAMIE, VA FIX | * 18000 | 45000
* 18000—GNSS MEA
* DME/DME/IRU MEA
JAMIE, VA FIX | CONFR, MD WP | * 18000 | 45000
* 18000—GNSS MEA
* DME/DME/IRU MEA
CONFR, MD WP | RADDS, DE FIX | * 18000 | 45000
* 18000—GNSS MEA
* DME/DME/IRU MEA
RADDS, DE FIX | WNSTN, NJ WP | * 18000 | 45000
* 18000—GNSS MEA
* DME/DME/IRU MEA
WNSTN, NJ WP | AVALO, NJ FIX | * 18000 | 45000
* 18000—GNSS MEA
* DME/DME/IRU MEA
AVALO, NJ FIX | BRIGS, NJ FIX | * 18000 | 45000
* 18000—GNSS MEA
* DME/DME/IRU MEA
BRIGS, NJ FIX | SHAUP, OA WP | * 18000 | 45000
* 18000—GNSS MEA
* DME/DME/IRU MEA
SHAUP, OA WP | VALCO, OA WP | * 18000 | 45000
* 18000—GNSS MEA
* DME/DME/IRU MEA
VALCO, OA WP | KYSKY, NY WP | * 18000 | 45000
* 18000—GNSS MEA
* DME/DME/IRU MEA
§ 95.4481 RNAV Route Q481 Is Added to Read
CONFR, MD WP | MGERK, DE WP | * 18000 | 45000
* 18000—GNSS MEA
* DME/DME/IRU MEA
MGERK, DE WP | LEEAH, NJ FIX | * 18000 | 45000
* 18000—GNSS MEA
* DME/DME/IRU MEA
LEEAH, NJ FIX | ZIGGI, NJ FIX | * 18000 | 45000
* 18000—GNSS MEA
* DME/DME/IRU MEA
ZIGGI, NJ FIX | DEER PARK, NY VOR/DME | * 18000 | 45000
* 18000—GNSS MEA
* DME/DME/IRU MEA

From | To | MEA
§ 95.6001 VICTOR Routes—U.S
§ 95.6007 VOR Federal Airway V7 Is Amended to Delete
GREEN BAY, WI VORTAC | MENOMINEE, MI VOR/DME | 2600
MENOMINEE, MI VOR/DME | SAWYER, MI VOR/DME | 2900
Is Amended to Read in Part
POCKET CITY, IN VORTAC | PRINC, IN FIX
| N BND | 2300
| S BND | 4500
§ 95.6010 VOR Federal Airway V10 Is Amended to Read in Part
LAMAR, CO VOR/DME | ADEER, KS FIX | * 5700
ADEER, KS FIX | GARDEN CITY, KS VORTAC
| W BND | * 5700
| E BND | * 5000
* 4400—MOCA
§ 95.6011 VOR Federal Airway V11 Is Amended to Read in Part
POCKET CITY, IN VORTAC | MACKY, IN FIX
| N BND | 2300
| S BND | 3000
MACKY, IN FIX | CLOWN, IN FIX
| N BND | * 3000
| S BND | * 6000
* 2100—MOCA
§ 95.6013 VOR Federal Airway V13 Is Amended to Read in Part
NEVAD, IA FIX | ALOCK, IA FIX | * 3300
* 2800—MOCA
§ 95.6017 VOR Federal Airway V17 Is Amended to Read in Part
MITBEE, OK VORTAC | GARDEN CITY, KS VORTAC | 4800
§ 95.6026 VOR Federal Airway V26 Is Amended to Delete
GREEN BAY, WI VORTAC | NEROE, WI WP | 3000
#GREEN BAY R-115 TO YULNU UNUSABLE EXCEPT FOR AIRCRAFT EQUIPPED WITH SUITABLE RNAV SYSTEM WITH GPS
NEROE, WI WP | WELKO, MI WP | * 5000
* 2400—MOCA
WELKO, MI WP
WHITE CLOUD, MI VOR/DME | 4000
#WHITE CLOUD R-303 TO YULNU UNUSABLE EXCEPT FOR AIRCRAFT EQUIPPED WITH SUITABLE RNAV SYSTEM WITH GPS
§ 95.6044 VOR Federal Airway V44 Is Amended to Delete
CENTRALIA, IL VORTAC | SAMSVILLE, IL VOR/DME | 2400
§ 95.6052 VOR Federal Airway V52 Is Amended to Read in Part
TROY, IL VORTAC | KENBE, IL FIX | 3000
KENBE, IL FIX | *CRATS, IL FIX | ** 4000
* 5000—MCA CRATS, IL FIX, SE BND
** 2600—MOCA
CRATS, IL FIX | OFEND, IL FIX | * 5000
* 1900—MOCA
OFEND, IL FIX | POCKET CITY, IN VORTAC | * 4500
* 2100—MOCA
§ 95.6082 VOR Federal Airway V82 Is Amended to Read in Part
GOPHER, MN VORTAC | FARMINGTON, MN VORTAC | * 3500
* 2800—MOCA
§ 95.6120 VOR Federal Airway V120 Is Amended to Read in Part
MASON CITY, IA VOR/DME | AREDA, IA FIX | 3000
§ 95.6161 VOR Federal Airway V161 Is Amended to Read in Part
LEMIG, TX FIX | CENTER POINT, TX VORTAC | 4100
NEVAD, IA FIX | ALOCK, IA FIX | * 3300
* 2800—MOCA
FARMINGTON, MN VORTAC | GOPHER, MN VORTAC | * 3500
* 2800—MOCA
§ 95.6170 VOR Federal Airway V170 Is Amended to Delete
SIOUX FALLS, SD VORTAC | WORTHINGTON, MN VOR/DME | 3400
§ 95.6175 VOR Federal Airway V175 Is Amended to Delete
MALDEN, MO VORTAC | BUNKS, MO WP | * 4000
* 2700—MOCA
BUNKS, MO WP | VICHY, MO VOR/DME | 3000
WORTHINGTON, MN VOR/DME | REDWOOD FALLS, MN VOR/DME | 3400
§ 95.6193 VOR Federal Airway V193 Is Amended to Delete
MUSKY, MI FIX | PULLMAN, MI VOR/DME | (#)
#UNUSABLE
PULLMAN, MI VOR/DME | CLOCK, MI WP | (#)
#UNUSABLE
CLOCK, MI WP | WHITE CLOUD, MI VOR/DME | (#)
#UNUSABLE
WHITE CLOUD, MI VOR/DME | TRAVERSE CITY, MI VOR/DME | (#)
#UNUSABLE
§ 95.6210 VOR Federal Airway V210 Is Amended to Delete
LAMAR, CO VOR/DME | LIBERAL, KS TACAN | * 6000
* 5300—MOCA
LIBERAL, KS TACAN | ROLLS, OK FIX | * 12000
* 4400—MOCA
* 5000—GNSS MEA
ROLLS, OK FIX | WAXEY, OK FIX
| W BND | * 11000
| E BND | * 9300
* 3800—MOCA
* 4000—GNSS MEA
WAXEY, OK FIX | WILL ROGERS, OK VORTAC
| W BND | * 9300
| E BND | * 5000
* 3300—MOCA
* 4000—GNSS MEA
§ 95.6217 VOR Federal Airway V217 Is Amended to Read in Part
GREEN BAY, WI VORTAC | WISOM, WI FIX
| SE BND | * 2700
| NW BND | * 3600
* 2400—MOCA
§ 95.6234 VOR Federal Airway V234 Is Amended to Delete
DALHART, TX VORTAC | BRAKR, OK WP | 5700
BRAKR, OK WP | LIBERAL, KS TACAN | * 5700
* 4700—MOCA
LIBERAL, KS TACAN | FLACK, KS FIX | 4600
FLACK, KS FIX | KRIER, KS FIX | * 5000
* 4100—MOCA
KRIER, KS FIX | BYWAY, KS FIX | * 7100
* 4000—MOCA
BYWAY, KS FIX | GABIE, KS FIX
| E BND | * 4500
| W BND | * 7100
* 3800—MOCA
GABIE, KS FIX | HUTCHINSON, KS VOR/DME
| E BND | 3800
| W BND | 4500
§ 95.6250 VOR Federal Airway V250 Is Amended to Delete
YANKTON, SD VOR/DME | WORTHINGTON, MN VOR/DME | 3400
WORTHINGTON, MN VOR/DME | MANKATO, MN VOR/DME | 3400
§ 95.6285 VOR Federal Airway V285 Is Amended to Delete
VICTORY, MI VOR/DME | CLOCK, MI WP | (#)
#UNUSABLE
CLOCK, MI WP | WHITE CLOUD, MI VOR/DME | (#)
#UNUSABLE
§ 95.6289 VOR Federal Airway V289 Is Amended to Read in Part
HONEE, TX FIX | LUFKIN, TX VORTAC | * 3000
* 2000—MOCA
§ 95.6305 VOR Federal Airway V305 Is Amended to Read in Part
POCKET CITY, IN VORTAC | AUGUS, IN FIX
| N BND | 2400
| S BND | 3500
AUGUS, IN FIX | WEGEE, IN FIX | * 3500
* 1900—MOCA
§ 95.6341 VOR Federal Airway V341 Is Amended to Delete
GREEN BAY, WI VORTAC | MENOMINEE, MI VOR/DME | 2600
MENOMINEE, MI VOR/DME | HAVEL, MI WP | 2500
HAVEL, MI WP | IRON MOUNTAIN, MI VOR/DME | 3300
§ 95.6350 VOR Federal Airway V350 Is Amended to Delete
LIBERAL, KS TACAN | WICHITA, KS VORTAC | * 8000
* 4500—MOCA
§ 95.6446 VOR Federal Airway V446 Is Amended to Delete
TROY, IL VORTAC | SAMSVILLE, IL VOR/DME | 2600
§ 95.6477 VOR Federal Airway V477 Is Amended to Read in Part
HUMBLE, TX VORTAC | LEONA, TX VORTAC | * 3000
* 2100—MOCA
§ 95.6493 VOR Federal Airway V493 Is Amended to Delete
MENOMINEE, MI VOR/DME | RHINELANDER, WI VOR/DME | 3500
§ 95.6507 VOR Federal Airway V507 Is Amended to Delete
MITBEE, OK VORTAC | LIBERAL, KS TACAN | 4700
LIBERAL, KS TACAN | GARDEN CITY, KS VORTAC | 4700

From | To | MEA | MAA
§ 95.7001 Jet Routes
§ 95.7019 Jet Route J19 Is Amended to Delete
PHOENIX, AZ VORTAC | ZUNI, NM VORTAC | 19000 | 45000
ZUNI, NM VORTAC | BUKKO, NM FIX | 18000 | 45000
#MEA IS ESTABLISHED WITH A GAP IN NAVIGATION SIGNAL COVERAGE.
BUKKO, NM FIX | FORT UNION, NM VORTAC | 18000 | 45000
FORT UNION, NM VORTAC | LIBERAL, KS TACAN | 18000 | 45000
LIBERAL, KS TACAN | WICHITA, KS VORTAC | 18000 | 45000
WICHITA, KS VORTAC | BUTLER, MO VORTAC | 18000 | 45000
BUTLER, MO VORTAC | ST LOUIS, MO VORTAC | 18000 | 45000
§ 95.7020 Jet Route J20 Is Amended to Delete
LAMAR, CO VOR/DME | LIBERAL, KS TACAN | 18000 | 45000
LIBERAL, KS TACAN | WILL ROGERS, OK VORTAC | 18000 | 45000
§ 95.7022 Jet Route J22 Is Amended to Delete
MERIDIAN, MS VORTAC | VULCAN, AL VORTAC | 18000 | 45000
VULCAN, AL VORTAC | VOLUNTEER, TN VORTAC | 18000 | 45000
VOLUNTEER, TN VORTAC | PULASKI, VA VORTAC | 18000 | 45000
PULASKI, VA VORTAC | MONTEBELLO, VA VOR/DME | 18000 | 45000
§ 95.7031 Jet Route J31 Is Amended to Delete
MERIDIAN, MS VORTAC | VULCAN, AL VORTAC | 18000 | 45000
§ 95.7039 Jet Route J39 Is Amended to Delete
MONTGOMERY, AL VORTAC | VULCAN, AL VORTAC | 18000 | 45000
VULCAN, AL VORTAC | NASHVILLE, TN VORTAC | 18000 | 45000
NASHVILLE, TN VORTAC | LOUISVILLE, KY VORTAC | 18000 | 45000
LOUISVILLE, KY VORTAC | ROSEWOOD, OH VORTAC | 18000 | 45000
§ 95.7048 Jet Route J48 Is Amended to Delete
MONTEBELLO, VA VOR/DME | FOOTHILLS, SC VOR/DME | 18000 | 41000
§ 95.7052 Jet Route J52 Is Amended to Delete
LAMAR, CO VOR/DME | LIBERAL, KS TACAN | 18000 | 45000
LIBERAL, KS TACAN | ARDMORE, OK VORTAC | 18000 | 45000
§ 95.7069 Jet Route J69 Is Amended to Delete
SEMMES, AL VORTAC | DELBE, AL FIX | 22000 | 45000
DELBE, AL FIX | VULCAN, AL VORTAC | 18000 | 45000
§ 95.7098 Jet Route J98 Is Amended to Delete
LIBERAL, KS TACAN | MITBEE, OK VORTAC | 18000 | 45000
§ 95.7118 Jet Route J118 Is Amended to Delete
MEMPHIS, TN VORTAC | CHOO CHOO, TN VORTAC | 18000 | 45000
CHOO CHOO, TN VORTAC | SPARTANBURG, SC VORTAC | 18000 | 45000
§ 95.7134 Jet Route J134 Is Amended to Delete
CIMARRON, NM VORTAC | LIBERAL, KS TACAN | 18000 | 45000
LIBERAL, KS TACAN | WICHITA, KS VORTAC | 18000 | 45000
§ 95.7145 Jet Route J145 Is Amended to Delete
FOOTHILLS, SC VOR/DME | CHARLESTON, WV VOR/DME | 18000 | 45000
§ 95.7186 Jet Route J186 Is Amended to Delete
FOOTHILLS, SC VOR/DME | SNOWBIRD, TN VORTAC | 18000 | 45000
SNOWBIRD, TN VORTAC | APPLETON, OH VORTAC | 18000 | 45000
§ 95.7231 Jet Route J231 Is Amended to Delete
ANTON CHICO, NM VORTAC | LIBERAL, KS TACAN | 18000 | 45000

Airway segment: From | Airway segment: To | Changeover points: Distance | Changeover points: From
§ 95.8003 VOR Federal Airway Changeover Point
V234 Is Amended to Delete Changeover Point
DALHART, TX VORTAC | LIBERAL, KANSAS VORTAC | 45 | DALHART.
§ 95.8005 Jet Route Changeover Points
J19 Is Amended to Delete Changeover Point
FORT UNION, NM VORTAC | GALLUP, NM VORTAC | 80 | FORT UNION.
J118 Is Amended to Delete
MEMPHIS, TN VORTAC | CHOO CHOO, TN VORTAC | 130 | MEMPHIS.

[FR Doc. 2022-18141 Filed 8-22-22; 8:45 am]

BILLING CODE 4910-13-P